DEPARTMENT OF THE TREASURY

Submission for OMB Review; Comment Request

July 14, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 20, 2004, to be assured of consideration.

Bureau of the Public Debt (PD)

OMB Number: 1535-0082.

Form Numbers: PD F 5237.

Type of Review: Extension.

Title: Subscription for Purchase of U.S. Treasury Securities State and Local Government Series One-Day Certificate of Indebtedness Demand Deposit.

Description: PD F 5237 is used to collect information from State and local government entities wishing to purchase Treasury securities.

Respondents: State, local or tribal government.

Estimated Number of Respondents: 100.

Estimated Burden Hours Per Respondent: 8 minutes.

Frequency of Response: On occasion.

Estimated Total Reporting Burden Hours: 13 hours.

OMB Number: 1535-0083.

Form Numbers: PD F 5238.

Type of Review: Extension.

Title: Request for Redemption of U.S. Treasury Securities-State and local government Series One-Day Certificates of Indebtedness.

Description: PD F 5238 is used to collect information from State and local government entities to process redemptions of U.S. Treasury Securities.

Respondents: State, local or tribal government.

Estimated Number of Respondents: 100.

Estimated Burden Hours Per Respondent: 3 minutes.

Frequency of Response: On occasion.

Estimated Total Reporting Burden Hours: 5 hours.

OMB Number: 1535-0112.

Form Numbers: None.

Type of Review: Extension.

Title: Sale and Issue of Marketable Book-Entry Treasury Bills, Notes and Bonds.

Description: Information is needed in order to process tenders and to ensure compliance with Treasury Auction Rules.

Respondents: Individuals or households, business or other for-profit, not-for-profit institutions.

Estimated Number of Respondents: 1.

Estimated Burden Hours Per Respondent: 1.

Frequency of Response: On occasion.

Estimated Total Reporting Burden Hours: 1 hour.

OMB Number: 1535-0117.

Form Numbers: PD F 1010.

Type of Review: Extension.

Title: Resolution for Transactions Involving Registered Securities.

Description: PD F 1010 is completed by an official of an organization that is designated to act on behalf of the organization.

Respondents: Business or other for-profit.

Estimated Number of Respondents: 500.

Estimated Burden Hours Per Respondent: 10 minutes.

Frequency of Response: On occasion.

Estimated Total Reporting Burden Hours: 85 hours.

OMB Number: 1535-0128.

Form Numbers: PD F 5396.

Type of Review: Extension.

Title: Direct Deposit Sign-Up Form.

Description: PD F 5396 is used to process payment data to the financial institution.

Respondents: Individuals or households.

Estimated Number of Respondents: 20,000.

Estimated Burden Hours Per Respondent: 10 minutes.

Frequency of Response: On occasion.

Estimated Total Reporting Burden Hours: 3,400 hours.

Clearance Officer: Vicki S. Thorpe, (304) 480-6553, Bureau of the Public Debt, 200 Third Street, Parkersburg, West VA 26106-1328.

OMB Reviewer: Joseph F. Lackey, Jr., (202) 395-7316, Office of Management and Budget, Room 10235, New Executive Office Building, Washington, DC 20503.

Lois K. Holland,
Treasury PRA Clearance Officer.

[FR Doc. 04-16564 Filed 7-20-04; 8:45 am]

BILLING CODE 4810-39-P